DEPARTMENT OF ENERGY

Federal Energy Regulatory Commission

[Docket No. IC17-14-000]

Commission Information Collection Activities (FERC-725U); Comment Request

AGENCY: Federal Energy Regulatory Commission.

ACTION: Comment request.

SUMMARY: In compliance with the requirements of the Paperwork Reduction Act of 1995, the Federal Energy Regulatory Commission (Commission or FERC) is submitting its information collection (FERC-725U, Mandatory Reliability Standards: Mandatory Reliability Standard CIP-014) to the Office of Management and Budget (OMB) for review of the information collection requirements. Any interested person may file comments directly with OMB and should address a copy of those comments to the Commission as explained below. The Commission previously issued a Notice in the Federal Register (82 FR 41618, 9/1/2017) requesting public comments. The Commission received no comments on the FERC-725U and is making this notation in its submittal to OMB.

DATES: Comments on the collection of information are due by December 1, 2017.

ADDRESSES: Comments filed with OMB, identified by the OMB Control No. 1902-0274, should be sent via email to the Office of Information and Regulatory Affairs: oira_submission@omb.gov. Attention: Federal Energy Regulatory Commission Desk Officer. The Desk Officer may also be reached via telephone at 202-395-0710.

A copy of the comments should also be sent to the Commission, in Docket No. IC17-14-000, by either of the following methods:

• eFiling at Commission's Web site: http://www.ferc.gov/docs-filing/efiling.asp.

• Mail/Hand Delivery/Courier: Federal Energy Regulatory Commission, Secretary of the Commission, 888 First Street NE., Washington, DC 20426.

Instructions: All submissions must be formatted and filed in accordance with submission guidelines at: http://www.ferc.gov/help/submission-guide.asp. For user assistance contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, by telephone at (202) 502-8663, and by fax at (202) 273-0873.

SUPPLEMENTARY INFORMATION:

Title: Mandatory Reliability Standards: Reliability Standard CIP-014.

OMB Control No.: 1902-0274.

Type of Request: Three-year extension of the FERC-725U information collection requirements with no changes to the reporting requirements.

Abstract: Reliability Standard CIP-014-2 ¹ requires applicable transmission owners and transmission operators to identify and protect transmission stations and transmission substations, and their associated primary control centers that if rendered inoperable or damaged as a result of a physical attack could result in instability, uncontrolled separation, or cascading within an Interconnection.

¹ Reliability Standard CIP-014-2 was implemented by the letter Order in Docket No. RD15-4-000 issued on 7/14/2015. Docket No. RD15-4-000 was not submitted to OMB because it did not implicate the Paperwork Reduction Act. The revised standard became effective on 10/2/2015 and is now being included in the FERC-725U information collection.

Transmission owners and transmission operators must keep data or evidence to show compliance with the standard for three years unless directed by its Compliance Enforcement Authority. If a responsible entity is found non-compliant, it must keep information related to the non-compliance until mitigation is complete and approved, or for the three years, whichever is longer.

Type of Respondents: Transmission owners (TO) and transmission operators (TOP).

Estimate of Annual Burden: ² The Commission estimates the annual public reporting burden for the information collection as:

² Burden is defined as the total time, effort, or financial resources expended by persons to generate, maintain, retain, or disclose or provide information to or for a Federal agency. For further explanation of what is included in the information collection burden, reference 5 Code of Federal Regulations 1320.3.

FERC-725U—Mandatory Reliability Standards: Reliability Standard CIP-014 ³
| Number and type of respondents | Number of responses per respondent | Total number of responses | Average burden hours and cost per response ⁴ | Total burden hours and total cost
| (1) | (2) | (1) * (2) = (3) | (4) | (3) * (4)
Year 1:
R1 | 334 TO | 1 | 334 | 20 hrs.; $1,280 | 6,680 hrs.; $427,520.
R2 | 334 TO | 1 | 334 | 34 hrs; $2,448 | 11,356 hrs.; $817,632.
R3 | 2 TOP | 1 | 2 | 1 hrs.; $129 | 2 hrs.; $258.
R4 | 30 TO and 2 TOP | 1 | 32 | 80 hrs.; $5,120 | 2,560 hrs.; $163,840.
R5 | 30 TO and 2 TOP | 1 | 32 | 320 hrs.; $20,480 | 10,240 hrs.; $655,360.
R6 | 30 TO and 2 TOP | 1 | 32 | 304 hrs.; $19,456 | 9,728 hrs.; $622,592.
Record Retention | 334 TO and 2 TOP | 1 | 336 | 2 hrs.; $76 | 672 hrs.; $25,536.
Year 2:
Record Retention | 334 TO and 2 TOP | 1 | 336 | 2 hrs.; $76 | 672 hrs.; $25,536.
Year 3:
R1 | 30 TO | 1 | 30 | 20 hrs.; $1,280 | 600 hrs.; $38,400.
R2 | 30 TO | 1 | 30 | 34 hrs.; $2,436 | 1,020 hrs.; $73,080.
R3 | 2 TOP | 1 | 2 | 1 hrs.; $129 | 2 hrs.; $258.
R4 | 30 TO and 2 TOP | 1 | 32 | 80 hrs.; $5,120 | 2,560 hrs.; $163,840.
R5 | 30 TO and 2 TOP | 1 | 32 | 80 hrs.; $5,120 | 2,560 hrs.; $163,840.
R6 | 30 TO and 2 TOP | 1 | 32 | 134 hrs.; $8,576 | 4,288 hrs.; $274,432.
Record Retention | 334 TO and 2 TOP | 1 | 336 | 2 hrs.; $76 | 672 hrs.; $25,536.
Year 1 Total |  |  |  |  | 41,238 hrs.; $2,712,738.
Year 2 Total |  |  |  |  | 672 hrs.; $25,536.
Year 3 Total |  |  |  |  | 11,702 hrs.; $739,386.
Total (for Years 1-3) |  |  |  |  | 53,612 hrs.; $3,477,660.
Average Annual Burden and Cost (for Years 1-3) |  |  |  |  | 17,871 hrs.; $1,159,220.

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

³ For each Reliability Standard, the Measure shows the acceptable evidence for the associated Reporting Requirement (R numbers), and the Compliance section details the related Recordkeeping Requirement.

⁴ The estimates for cost per response are derived using the following formula: Average Burden Hours per Response * XX per Hour = Average Cost per Response.

The hourly cost figures are based on data for wages plus benefits from the Bureau of Labor Statistics (as of 11/9/2016) at https://www.bls.gov/oes/current/naics2_22.htm and http://www.bls.gov/news.release/ecec.nr0.htm. The figures are rounded for the purposes of calculations in this table and are:

1. For electrical engineers (occupation code: 17-2071), $64.29/hr., rounded to $64/hr.

2. For attorneys (occupation code: 23-0000), $129.12/hr., rounded to $129/hr.

3. For administrative staff (occupation code: 43-0000), $37.75/hr., rounded to $38/hr.

The record retention cost is based on the administrative staff category; R3 is based on the attorney category; Requirements R1, R4, R5 and R6 are based on the electrical engineer category; and R2 is a mix of the electrical engineer and related engineering review process (30 hrs. at $64/hr.) and attorney (4 hrs. at $129/hr.) categories. The resulting average hourly figure is $71.65, rounded to $72/hr.

Dated: October 25, 2017.
Kimberly D. Bose,
Secretary.

[FR Doc. 2017-23723 Filed 10-31-17; 8:45 am]

BILLING CODE 6717-01-P